DEPARTMENT OF ENERGY

Federal Energy Regulatory Commission

Combined Notice of Filings #1

Take notice that the Commission received the following electric corporate filings:

Docket Numbers: EC20-68-000.

Applicants: DTE Electric Company, Gichi Noodin Wind Farm, LLC.

Description: Application for Authorization Under Section 203 of the Federal Power Act, et al. of DTE Electric Company, et al.

Filed Date: 5/27/20.

Accession Number: 20200527-5140.

Comments Due: 5 p.m. ET 6/17/20.

Take notice that the Commission received the following electric rate filings:

Docket Numbers: ER10-3115-006.

Applicants: Waterside Power, LLC.

Description: Supplement to April 20, 2020 Triennial Market Power Update for the Northeast Region of Waterside Power, LLC.

Filed Date: 5/26/20.

Accession Number: 20200526-5242.

Comments Due: 5 p.m. ET 6/16/20.

Docket Numbers: ER10-3117-008.

Applicants: Lea Power Partners, LLC.

Description: Supplement to April 20, 2020 Triennial Market Power Update for the Southwest Power Pool Region of Lea Power Partners, LLC.

Filed Date: 5/26/20.

Accession Number: 20200526-5241.

Comments Due: 5 p.m. ET 6/16/20.

Docket Numbers: ER14-1421-005.

Applicants: Diamond State Generation Partners, LLC.

Description: Compliance filing: Compliance Filing to be effective 7/1/2019.

Filed Date: 5/27/20.

Accession Number: 20200527-5000.

Comments Due: 5 p.m. ET 6/17/20.

Docket Numbers: ER20-1901-000.

Applicants: Midcontinent Independent System Operator, Inc.

Description: Request for Waiver of Midcontinent Independent System Operator, Inc.

Filed Date: 5/26/20.

Accession Number: 20200526-5239.

Comments Due: 5 p.m. ET 6/16/20.

Docket Numbers: ER20-1902-000.

Applicants: Midcontinent Independent System Operator, Inc., PJM Interconnection, L.L.C.

Description: § 205(d) Rate Filing: 2020-05-27_MISO-PJM JOA EMS Models and Data Exchange Filing to be effective 7/27/2020.

Filed Date: 5/27/20.

Accession Number: 20200527-5112.

Comments Due: 5 p.m. ET 6/17/20.

Docket Numbers: ER20-1903-000.

Applicants: Midcontinent Independent System Operator, Inc., PJM Interconnection, L.L.C.

Description: § 205(d) Rate Filing: Revisions to the MISO-PJM Joint Operating Agreement re EMS Data Confidentiality to be effective 7/27/2020.

Filed Date: 5/27/20.

Accession Number: 20200527-5134.

Comments Due: 5 p.m. ET 6/17/20.

Docket Numbers: ER20-1904-000.

Applicants: California Independent System Operator Corporation.

Description: § 205(d) Rate Filing: 2020-05-27 Proxy Demand Resources to Provide Flexible RA Capacity to be effective 8/1/2020.

Filed Date: 5/27/20.

Accession Number: 20200527-5152.

Comments Due: 5 p.m. ET 6/17/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2020.
Nathaniel J. Davis, Sr.,
Deputy Secretary.

[FR Doc. 2020-11841 Filed 6-1-20; 8:45 am]

BILLING CODE 6717-01-P